DEPARTMENT OF TRANSPORTATION

Federal Aviation Administration

14 CFR Part 39

[Docket No. FAA-2007-0024; Directorate Identifier 2007-NM-086-AD; Amendment 39-15526; AD 2008-11-04]

RIN 2120-AA64

Airworthiness Directives; Boeing Model 737-100, -200, -200C, -300, -400, and -500 Series Airplanes

AGENCY: Federal Aviation Administration (FAA), DOT.

ACTION: Final rule.

SUMMARY: We are adopting a new airworthiness directive (AD) for all Boeing Model 737-100, -200, -200C, -300, -400, and -500 series airplanes. This AD requires repetitive inspections for cracking in and around the upper and lower hinge cutouts of the forward entry and forward galley service doorways, and corrective actions if necessary. This AD results from multiple reports of cracks found in the skin, bearstrap, and/or frame outer chord in the hinge cutout areas of the forward entry and forward galley service doorways. We are issuing this AD to detect and correct such cracking, which could result in rapid decompression of the airplane.

DATES: This AD is effective June 25, 2008.

The Director of the Federal Register approved the incorporation by reference of a certain publication listed in this AD as of June 25, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Howard Hall, Aerospace Engineer, Airframe Branch, ANM-120S, FAA, Seattle Aircraft Certification Office, 1601 Lind Avenue, SW., Renton, Washington 98057-3356; telephone (425) 917-6430; fax (425) 917-6590.

SUPPLEMENTARY INFORMATION:

Discussion

We issued a notice of proposed rulemaking (NPRM) to amend 14 CFR part 39 to include an airworthiness directive (AD) that would apply to all Boeing Model 737-100, -200, -200C, -300, -400, and -500 series airplanes. That NPRM was published in the Federal Register on October 11, 2007 (72 FR 57890). That NPRM proposed to require repetitive inspections for cracking in and around the upper and lower hinge cutouts of the forward entry and forward galley service doorways, and corrective actions if necessary.

Comments

We gave the public the opportunity to participate in developing this AD. We considered the comments received.

Request To Add Optional Terminating Action for Certain Inspection Areas

The Air Transport Association (ATA), on behalf of its member United Airlines, concurs with the contents of the NPRM. United adds that Boeing Alert Service Bulletin 737-53A1200, dated April 13, 2006 (cited in the NPRM as the appropriate source of service information), does not require inspecting the hinge cutouts for cracks in the skin or bearstrap if an FAA-approved Boeing repair is installed. United requests that we revise the NPRM to include similar language.

We partially agree. We agree that the inspections specified in paragraph (f) of this AD may be terminated at areas repaired in accordance with Boeing 737-100/-200 SRM 53-30-3, Figures 20, 21, 31, or 32; or Boeing 737-300/-400/-500 SRM 53-10-01, Repair 5, 6, or 8; as applicable. Boeing concurs with this provision. We have added the provision in new paragraph (i) of this AD, and re-identified subsequent paragraphs. But we do not agree that a nonspecified previously installed repair—even one issued by Boeing and approved by the FAA—is acceptable as a terminating action, unless the repair is properly evaluated as it relates to this AD. If a repair (or other modification or alteration) prevents an operator from accomplishing any action of this AD, then that operator must request FAA approval of an alternative method of compliance (AMOC) (14 CFR section 39.17). Paragraph (j) of the final rule provides operators the opportunity to request approval of specific repair configurations as terminating action.

Conclusion

We reviewed the relevant data, considered the comments received, and determined that air safety and the public interest require adopting the AD as proposed.

Costs of Compliance

There are about 2,437 airplanes of the affected design in the worldwide fleet. The following table provides the estimated costs, per inspection cycle, for U.S. operators to comply with this AD.

Estimated Costs
Work hours | Average hourly labor rate | Cost per airplane | Number of U.S.-registered airplanes | Fleet cost
13 to 14 | $80 | $1,040 to $1,120 | 1,055 | $1,097,200 to $1,181,600.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-11-04 Boeing: Amendment 39-15526. Docket No. FAA-2007-0024; Directorate Identifier 2007-NM-086-AD.

Effective Date

(a) This airworthiness directive (AD) is effective June 25, 2008.

Affected ADs

(b) None.

Applicability

(c) This AD applies to all Boeing Model 737-100, -200, -200C, -300, -400, and -500 series airplanes, certificated in any category.

Unsafe Condition

(d) This AD results from multiple reports of cracks found in the skin, bearstrap, and/or frame outer chord in the hinge cutout areas of the forward entry and forward galley service doorways. We are issuing this AD to detect and correct such cracking, which could result in rapid decompression of the airplane.

Compliance

(e) You are responsible for having the actions required by this AD performed within the compliance times specified, unless the actions have already been done.

Repetitive Inspections

(f) Except as provided by paragraph (g) of this AD, at the applicable times specified in paragraph 1.E. of Boeing Alert Service Bulletin 737-53A1200, dated April 13, 2006, do external detailed, low frequency eddy current, high frequency eddy current, and high frequency eddy current rotary probe inspections, as applicable, for cracks in and around the upper and lower hinge cutouts of the forward entry and forward galley service doorways, in accordance with the Accomplishment Instructions of the service bulletin, except as provided by paragraphs (h) and (i) of this AD. Do not exceed the applicable repetitive interval for the previous inspection, as specified in the service bulletin as Option A or Option B. Repair any crack before further flight using a method approved in accordance with the procedures specified in paragraph (i) of this AD.

Exceptions to Service Bulletin Specifications

(g) Where Boeing Alert Service Bulletin 737-53A1200, dated April 13, 2006, specifies a compliance time after the release date of the service bulletin, this AD requires compliance within the specified compliance time after the effective date of this AD.

(h) Although Boeing Alert Service Bulletin 737-53A1200, dated April 13, 2006, specifies contacting Boeing for information about installing an optional preventive modification that would terminate the repetitive inspections specified in this AD, this AD requires that any terminating action be done by using a method approved in accordance with the procedures specified in paragraph (j) of this AD.

(i) The inspections specified in paragraph (f) of this AD may be terminated at areas repaired in accordance with Boeing 737-100/-200 SRM 53-30-1, Figures 20, 21, 31, or 32; or Boeing 737-300/-400/-500 SRM 53-10-01, Repair 5, 6, or 8; as applicable.

Alternative Methods of Compliance (AMOCs)

(j)(1) The Manager, Seattle Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(k) You must use Boeing Alert Service Bulletin 737-53A1200, dated April 13, 2006, to do the actions required by this AD, unless the AD specifies otherwise.

(1) The Director of the Federal Register approved the incorporation by reference of this service information under 5 U.S.C. 552(a) and 1 CFR part 51.

(2) For service information identified in this AD, contact Boeing Commercial Airplanes, P.O. Box 3707, Seattle, Washington 98124-2207.

(3) You may review copies of the service information incorporated by reference at the FAA, Transport Airplane Directorate, 1601 Lind Avenue, SW., Renton, Washington; or at the National Archives and Records Administration (NARA). For information on the availability of this material at NARA, call 202-741-6030, or go to http://www.archives.gov/federal_register/code_of_federal_regulations/ibr_locations.html.

Issued in Renton, Washington, on May 9, 2008.
Michael J. Kaszycki,
Acting Manager, Transport Airplane Directorate, Aircraft Certification Service.

[FR Doc. E8-11118 Filed 5-20-08; 8:45 am]

BILLING CODE 4910-13-P